DEPARTMENT OF AGRICULTURE

Forest Service

Information Collection; Volunteer Application for Natural Resources Agencies

AGENCY: Forest Service, USDA.

ACTION: Notice; Request for comment.

SUMMARY: In accordance with the Paperwork Reduction Act of 1995, the Forest Service is seeking comments from all interested individuals and organizations on the extension of a currently approved information collection entitled, Volunteer Application for Natural Resources Agencies.

DATES: Comments must be received in writing on or before May 29, 2007 to be assured of consideration. Comments received after that date will be considered to the extent practicable.

ADDRESSES: Comments concerning this notice should be addressed to Director, Senior, Youth & Volunteer Programs, Mailstop 1136, Forest Service, USDA, 1400 Independence Avenue, SW., Washington, DC 20250-1136. Comments also may be submitted via facsimile to (703) 605-5115 or by e-mail to: abryant@fs.fed.us.

The public may inspect comments received at USDA—Forest Service, 1621 N. Kent Street, Rosslyn Plaza East, Room 1010, Arlington, VA during normal business hours. Visitors are encouraged to call ahead to (703) 605-4831 to facilitate entry to the building.

FOR FURTHER INFORMATION CONTACT: Arthur Bryant, Director, Senior, Youth, and Volunteer Programs, at (703) 605-4831. Individuals who use TDD may call the Federal Relay Service (FRS) at 1-800-877-8339, 24 hours a day, every day of the year, including holidays.

SUPPLEMENTARY INFORMATION: Title: Volunteer Application for Natural Resources Agencies.

OMB Number: 0596-0080.

Expiration Date of Approval: August 31, 2007.

Type of Request: Extension of a currently approved collection.

Abstract: The collected information is needed by participating natural resources agencies to manage agency volunteer programs. Information is collected from potential and selected volunteers of all ages. Those under the age of 18 years must have written consent from a parent or guardian.

Participating Agencies:

The volunteer programs of the following natural resource agencies are included:

Department of Agriculture: U.S. Forest Service, National Resources Conservation Service;

Department of the Interior: National Park Service, Fish and Wildlife Service, Bureau of Land Management, Bureau of Reclamation, U.S. Geological Survey;

Department of Defense: U.S. Army Corps of Engineers;

Forms:

OF-301—Volunteer Application: Individuals interested in volunteering may access the national Federal volunteer opportunities Web site (http://www.volunteer.gov/gov/index.cfm), individual agency Web sites, and/or contact agencies to request a Volunteer Application (OF-301). Applicants provide name, address, telephone number, age, preferred work categories, available dates, preferred location, description of physical limitations, and lodging preferences. Information collected using this form assists agency volunteer coordinators and other personnel in matching volunteers with agency opportunities appropriate for an applicant's skills and physical condition and availability. Signature of a parent or guardian is mandatory for applicants under 18 years of age.

OF-New—Volunteer Agreement: This form will be used by participating resource agencies to document agreements for volunteer services between a Federal agency and individual or group volunteers, including international volunteers. Signature of parent or guardian is mandatory for applicants under 18 years of age.

Forms unique to participating agencies: The forms listed below gather information necessary to reimburse volunteers for approved, miscellaneous expenses associated with volunteer assignments and record service time of volunteers.

U.S. Forest Service: FS-6500-299—Volunteers Request for Reimbursement.

U.S. Fish and Wildlife Service: Volunteer Time Sheet; SF-1164—Claim for Miscellaneous Expenses.

U.S. Geological Survey: Form 9-2080—USGS Individual Volunteer Agreement.

National Park Service: Form 10-67—Volunteer Claim for Reimbursement.

Estimate of Annual Burden: 15 minutes.

Type of Respondents: Individuals.

Estimated Annual Number of Respondents: 400,000.

Estimated Annual Number of Responses per Respondent: 5.

Estimated Total Annual Burden on Respondents: 500,000.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: March 21, 2007.
Hank Kashdan,
Deputy Chief.

[FR Doc. E7-5714 Filed 3-27-07; 8:45 am]

BILLING CODE 3410-11-P